DEPARTMENT OF JUSTICE

[OMB Number 1117-0034]

Agency Information Collection Activities; Proposed eCollection eComments Requested; Extension Without Change of a Previously Approved Collection; The National Forensics Laboratory Information System Collection of Analysis Data

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995.

DATES: Comments are encouraged and will be accepted for 60 days until January 27, 2025.

FOR FURTHER INFORMATION CONTACT: If you have additional comments especially on the estimated public burden or associated response time, suggestions, or need a copy of the proposed information collection instrument with instructions or additional information, please contact Heather E. Achbach, Regulatory Drafting and Policy Support Section, Drug Enforcement Administration; Mailing Address: 8701 Morrissette Drive, Springfield, Virginia 22152; Telephone: (571) 776-3882; Email: Heather.E.Achbach@dea.gov or DEA.PRA@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection:

1. Type of Information Collection: Extension of a currently approved collection.

2. Title of the Form/Collection: The National Forensics Laboratory Information System Collection of Analysis Data.

3. The agency form number, if any, and the applicable component of the Department sponsoring the collection: No form number is associated with this collection. The applicable component within the Department of Justice is the Drug Enforcement Administration, Diversion Control Division.

4. Affected public who will be asked or required to respond, as well as a brief abstract:

Affected public (Primary): Business or other for-profit.

Affected public (Other): Not-for-profit institutions; Federal, State, local, and tribal governments.

Abstract: This collection provides the Drug Enforcement Administration (DEA) with a national database on analyzed drug evidence from non-federal laboratories. Information from this database is combined with the other existing databases to develop more accurate, up-to-date information on abused drugs. This database represents a voluntary, cooperative effort on the part of participating laboratories to provide a centralized source of analyzed drug data.

5. An estimate of the total number of respondents and the amount of time estimated for an average respondent to respond: The DEA estimates that 2,640 registrants participate in this information collection, taking an estimated 0.32003 mins per registrant annually.

The time per response is 8 minutes for Current collection of the continuous, ongoing NFLIS-Drug Program, 10 minutes for Collection of the NFLIS-MEC Program and Collection of the NFLIS-Tox Program, 30 minutes for Survey of the NFLIS-MEC Program, 45 minutes for Collection of the NFLIS-Tox Program and Survey of the NFLIS-Tox Program.

6. An estimate of the total public burden (in hours) associated with the proposed collection: DEA estimates that this collection takes 1,860 annual burden hours.

7. An estimate of the total annual cost burden associated with the collection, if applicable: $0.

Total Burden Hours
Activity | Number of respondents | Frequency | Total annual responses | Time per response | Total annual burden (hours)
Current collection of the continuous, ongoing NFLIS-Drug Program | 140 | 134 respondents monthly, 6 respondents quarterly | 1632 | 0.13 (8 minutes) | 218
Survey of the NFLIS-Drug Program | 140 | once in 2019 | 140 | 0.5 (30 minutes) | 70
Collection of the NFLIS-MEC Program | 2100 | monthly and quarterly (unknown breakdown) | 2100 | 0.17 (10 minutes) | 350
Survey of the NFLIS-MEC Program | 2100 | once in 2020 | 1260 | 0.75 (45 minutes) | 945
Collection of the NFLIS-Tox Program | 400 | monthly and quarterly (unknown breakdown) | 400 | 0.17 (10 minutes) | 67
Survey of the NFLIS-Tox Program | 400 | once in 2021 | 280 | 0.75 (45 minutes) | 210
Unduplicated Totals | 2,640 | 2.2015 | 5,812 | 0.32003 | 4,840

If additional information is required contact: Darwin Arceo, Department Clearance Officer, United States Department of Justice, Justice Management Division, Policy and Planning Staff, Two Constitution Square, 145 N Street NE, 4W-218, Washington, DC.

Dated: November 21, 2024.
Darwin Arceo,
Department Clearance Officer for PRA, U.S. Department of Justice.

[FR Doc. 2024-27680 Filed 11-25-24; 8:45 am]

BILLING CODE 4410-09-P